SECURITIES AND EXCHANGE COMMISSION

Sunshine Act Meeting

Notice is hereby given, pursuant to the provisions of the Government in the Sunshine Act, Public Law 94-409, that the Securities and Exchange Commission will hold an Open Meeting on Wednesday, July 23, 2014 at 10:00 a.m., in the Auditorium, Room L-002.

The subject matters of the Open Meeting will be:

• The Commission will consider whether to adopt amendments to certain rules under the Investment Company Act of 1940 that govern the operation of money market funds and related amendments to Form PF under the Investment Advisers Act of 1940. The Commission will also consider whether to issue a related notice of proposed exemptive relief.

• The Commission will consider whether to (i) re-propose amendments to the principal rule under the Investment Company Act of 1940 that governs the operation of money market funds to address provisions that reference credit ratings and (ii) propose an amendment to the diversification provisions in that rule.

At times, changes in Commission priorities require alterations in the scheduling of meeting items.

For further information and to ascertain what, if any, matters have been added, deleted or postponed, please contact:

The Office of the Secretary at (202) 551-5400.

Dated: July 16, 2014.
Kevin M. O'Neill,
Deputy Secretary.

[FR Doc. 2014-17141 Filed 7-17-14; 11:15 am]

BILLING CODE 8011-01-P